DEPARTMENT OF ENERGY

Federal Energy Regulatory Commission

[Docket No. CP02-374-000]

Hackberry LNG Terminal, L.L.C.; List of Technical Conference Attendees

May 2, 2003.

On April 23, 2003, staff of the Office of Energy Projects convened a cryogenic design and technical conference concerning Hackberry LNG Terminal L.L.C.'s (Hackberry LNG) proposed liquefied natural gas import terminal and storage facility in Cameron Parish, Louisiana. The following parties attended:

Name/Representing

Arvedlund, Robert, FERC

Banchik, I.N., CH-IV International (Hackberry LNG)

Beppler, Laurie J., BP Energy Co.

Bowdoin, Jr, Leon A., Weaver's Cove Energy, LLC

Brouwer de Koning, Hector H., Black & Veatch Pritchard, Inc. (Hackberry LNG)

Busch, James G., BP Energy Co.

Comper, Geoffrey, Sempra Energy (HAckberry LNG)

Diemert, Michael, CH-IV International (Hackberry LNG)

Duncan, Rnady, Natural Resources Group (FERC)

Fernie, J.D., BG LNG Services, LLC

Floyd, Bradley, TRC Companies, Inc (Hackberry LNG)

Granger, E.D., Cheniere Energy, Inc.

Hand, Ron W., Hackberry LNG

Hatch, David, Hackberry LNG

Hope, David G., Skanska Whessoe (Hackberry LNG0

Isden, R.F., Skanska Whessoe (Hackberry LNG)

Johnson, Paul, Poten & Partners (HAckberry LNG)

Kelly, John, CMS Trunkline LNG Company, LLC

Kelly-Cochrane, Dale, Sempra Energy (Hackberry LNG)

Latham, Keith, Sempra Energy (Hackberry LNG)

Little, Keith, Conoco Inc.

Mash, Keith A., Skanska Whessoe (Hackberry LNG)

Mattson, Todd, Natural Resource Group, Inc. (FERC)

McCartney, Dan, Black & Veatch Pritchard, Inc (Hackberry LNG)

Morris, J.D., Hackberry LNG

Outtrim, Patricia, Project Technical Liaison Associates, Inc. (Hackberry (LNG)

Purcell, William Sempra Energy (Hackberry LNG)

Rose, Darren J., Skanska Whessoe (Hackberry LNG)

Stebbing, Roger, FERC

Terry, Sarah E., Conoco Inc.

Turpin, Terry, FERC

Zerby, Chris, FERC

Magalie R. Salas,
Secretary

[FR Doc. 03-11502 Filed 5-7-03; 8:45 am]

BILLING CODE 6717-01-P